POSTAL SERVICE

39 CFR Part 230

Office of Inspector General; Contractor Requirements

AGENCY: Postal Service.

ACTION: Final rule.

SUMMARY: This rule establishes standards of qualification and responsibility for contractors employed by the Office of Inspector General. The rule also emphasizes consistency in contractor selection, and clarifies the OIG's exclusive authority to set qualifications and standards for its own contractors, as well as ensure the use of contracting best practices as established by the Federal Acquisition Regulations and other applicable sources in making contract awards.

DATES: Effective Date: March 12, 2012.

FOR FURTHER INFORMATION CONTACT: Anil Murjani, Office of General Counsel, Office of Inspector General, United States Postal Service, (703) 248-2244.

SUPPLEMENTARY INFORMATION: The OIG possesses contracting authority pursuant to the Inspector General Act of 1978, as amended (section 6(a)(9) of 5 U.S.C. App. 3). Under 39 CFR 230.1(i), the Postal Service's Office of the Inspector General (OIG) may hire and retain the services of expert consultants and other personnel as necessary to fulfill the duties and responsibilities of the Office. This rule establishes general standards of qualification and responsibility for such contractors. The rule also emphasizes consistency in contractor selection, and clarifies the OIG's exclusive authority to set qualifications and standards for its own contractors, as well as ensure the use of contracting best practices as established by the Federal Acquisition Regulations and other applicable sources in making contract awards. Neither the United States Postal Service nor the OIG will be bound by the Federal Acquisition Regulations through the adoption of this rule.

List of Subjects in 39 CFR Part 230

Authority delegations (Government agencies), Freedom of information, Organization and functions (Government agencies), Privacy.

For the reasons stated, the Postal Service adopts the following amendment to 39 CFR Part 230:

PART 230—OFFICE OF INSPECTOR GENERAL

1. The authority citation for Part 230 continues to read as follows:

Authority: 5 U.S.C. App. 3; 39 U.S.C. 401(2) and 1001.

2. Subpart A of Part 230 is amended by adding new § 230.6 to read as follows:

§ 230.6 Contractor requirements.

(a) The Office of Inspector General shall be the exclusive judge of its contractors' qualifications.

(b) The Office of Inspector General shall award contracts to and make purchases from only responsible contractors. In order to award a contract, a contracting officer must make an affirmative determination of responsibility.

(c) A responsible prospective contractor is one who:

(1) Has the financial and logistical resources to perform the contract;

(2) Has the necessary organization, experience, and technical ability to perform the contract;

(3) Is able to comply with the delivery and performance schedules established by the Office of Inspector General;

(4) Has a satisfactory performance record (although a lack of relevant performance history shall not disqualify a prospective contractor from award);

(5) Has a satisfactory record of integrity and business ethics; and,

(6) Is otherwise qualified and eligible to receive an award under applicable federal laws and regulations.

Stanley F. Mires,
Attorney, Legal Policy & Legislative Advice.

[FR Doc. 2012-2941 Filed 2-8-12; 8:45 am]

BILLING CODE 7710-12-P